DEPARTMENT OF TRANSPORTATION

Federal Aviation Administration

Notice of Passenger Facility Charge (PFC) Approvals and Disapprovals

AGENCY: Federal Aviation Administration (FAA), DOT.

ACTION: Monthly Notice of PFC Approvals and Disapprovals. In October 2005, there were five applications approved. This notice also includes information on two applications, approved in September 2005, inadvertently left off the September 2005 notice. Additionally, 14 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph d of § 158.29.

PFC Applications Approved

Public Agency: Los Angeles World Airports, Los Angeles, California.

Application Number: 05-05-C-00-LAX.

Application Type: Impose and use a PFC.

PFC Level: $4.50.

Total PFC Revenue Approved in This Decision: $267,249,968.

Earliest Charge Effective Date: December 1, 2005.

Estimated Charge Expiration Date: October 1, 2009.

Class of Air Carriers not Required to Collect PFC's: All air taxi/commercial operators filing FAA Form 1800-31.

Determination: Approved. Based on information contained in the public agency's application, the FAA has determined that the approved class accounts for less than 1 percent of the total annual enplanements at Los Angeles International Airport (LAX).

Brief Description of Projects Approved for Collection at LAX and Use at a $3.00 PFC Level:

Apron lighting upgrade.

Southside airfield improvement program and new large aircraft integrated study.

Century cargo complex—demolition of air freight 3.

Taxilane C-10 reconstruction.

Master plan.

Aircraft rescue and firefighting vehicles.

Brief Description of Project Approved for Collection at LAX and Use at Palmdale Production Flight/Test Installation Air Force Plant 42 at a $3.00 PFC Level: Master plan.

Brief Description of Project Approved for Collection at LAX and Use at LAX, Ontario International Airport, and Van Nuys Airport at a $3.00 PFC Level: Aircraft noise monitoring and management system.

Brief Description of Projects Approved for Collection at LAX and Use at LAX at a $4.50 PFC Level:

Southside airfield improvement program—airfield intersection improvements.

Southside airfield improvement program—remote boarding facilities modifications.

Tom Bradley International terminal interior improvements program—interior improvements and bag screening systems.

Implementation of information technology security master plan.

Brief Description of Project Disapproved for Collection at LAX and Use at LAX: Automatic external defibrillator installation.

Determination: As a stand-alone project, the automatic external defibrillator does not meet the requirements of § 158.15(a). In addition, this project does not meet the requirements of § 158.15(b)(2). The project is not Airport Improvement Program (AIP) eligible in accordance with paragraph 540 of FAA Order 5100/38C, AIP Handbook (June 28, 2005).

Decision Date: September 23, 2005.

FOR FURTHER INFORMATION CONTACT: Ruben Cabalbag, Western Pacific Airports Regional Office, (310) 725-3630.

Public Agency: Puerto Rico Ports Authority, Aguadilla, Puerto Rico.

Application Number: 05-02-C-00-BQN.

Application Type: Impose and use a PFC.

PFC Level: $4.50.

Total PFC Revenue Approved in This Decision: $9,828,476.

Earliest Charge Effective Date: December 1, 2005.

Estimated Charge Expiration Date: December 1, 2021.

Class of Air Carriers Not Required to Collect PFC's: None.

Brief Description of Projects Approved for Collection and Use:

Study, design, and construct new runway pavement 8/26.

Expand passenger terminal.

Rehabilitate apron slabs.

Brief Description of Disapproved Project: Construct aircraft rescue and firefighting training pit.

Determination: This project did not meet the requirements of § 158.25(c)(1)(ii)(B).

Decision Date: September 29, 2005.

FOR FURTHER INFORMATION CONTACT: Susan Moore, Orlando Airports District Office, (407) 812-6331, extension 20.

Public Agency: Jackson Hole Airport Board, Jackson, Wyoming.

Application Number: 05-10-C-00-JAC.

Application Type: Impose and use a PFC.

PFC Level: $4.50.

Total PFC Revenue Approved in This Decision: $2,277,186.

Earliest Charge Effective Date: January 1, 2007.

Estimated Charge Expiration Date: August 1, 2009.

Class of Air Carriers Not Required To Collect PFC'S: None.

Brief Description of Projects Approved for Collection and Use:

Expand air carrier apron.

Planning studies.

Rehabilitate taxiway A and associated connectors.

Snow removal equipment.

PFC application and administration fees.

Decision Date: October 5, 2005.

FOR FURTHER INFORMATION CONTACT: Chris Schaffer, Denver Airports District Office, (303) 342-1258.

Public Agency: State of Alaska Department of Transportation and Public Facilities, Anchorage, Alaska.

Application Number: 05-02-C-00-ANC.

Application Type: Impose and use a PFC.

PFC Level: $3.00.

Total PFC Revenue Approved in This Decision: $14,000,000.

Earliest Charge Effective Date: January 1, 2006.

Estimated Charge Expiration Date: July 1, 2009.

Class of Air Carriers Not Required To Collect PFC'S: None.

Brief Description of Project Approved for Collection and Use: Concourse A and B remodel.

Decision Date: October 12, 2005.

FOR FURTHER INFORMATION CONTACT: Jim Lomen, Alaska Region Airports Division, (907) 271-5816.

Public Agency: Golden Triangle Regional Authority, Columbus, Mississippi.

Application Number: 06-04-C-00-GTR.

Application Type: Impose and use a PFC.

PFC Level: $4.50.

Total PFC Revenue Approved in This Decision: 125,000.

Charge Effective Date: October 1, 2007.

Estimated Charge Expiration Date: October 1, 2009.

Class of Air Carriers Not Required to Collect PFC'S: None.

Brief Description of Project Approved for Collection and Use: Build air cargo ramp.

Decision Date: October 18, 2005.

FOR FURTHER INFORMATION CONTACT: David Shumate, Jackson Airports District Office, (601) 664-9882.

Public Agency: Fort Wayne-Allen County Airport Authority, Fort Wayne, Indiana.

Application Number: 05-03-C-00-FWA.

Application Type: Impose and use a PFC.

PFC Level: $4.50.

Total PFC Revenue Approved in This Decision: $2,045,000.

Earliest Charge Effective Date: October 1, 2016.

Estimated Charge Expiration Date: March 1, 2018.

Class of Air Carriers Not Required To Collect PFC'S: Non-scheduled/on-demand air carriers.

Determination: Approved. Based on information contained in the public agency's application, the FAA has determined that the approved class accounts for less than 1 percent of the total annual enplanements at Fort Wayne International Airport.

Brief Description of Projects Approved for Collection and Use:

Aircraft rescue and firefighting vehicle.

Four-by-four high speed runway snow blower.

Four-by-four high speed runway snow plow.

Four-by-four high speed runway snow plow.

Mobile deicer collector unit.

Decision Date: October 21, 2005.

FOR FURTHER INFORMATION CONTACT: Gary Wilson, Chicago Airports District Office, (847) 294-7631.

Public Agency: Houghton County Memorial Airport Committee, Calumet, Michigan.

Application Number: 06-10-C-00-CMX.

Application Type: Impose and use a PFC.

PFC Level: $4.50.

Total PFC Revenue Approved in This Decision: $130,367.

Earliest Charge Effective Date: September 1, 2006.

Class of Air Carriers Not Required To Collect PFC's: None.

Brief Description of Projects Approved for Collection and Use:

Storm water removal from sanitary sewer system.

Security fence/perimeter road wetland mitigation and/or preservation.

Security fence/perimeter road delineation of wetlands.

Snow removal equipment—snow blower procurement.

Stream remediation, phase 1, check dams and sedimentation basins.

Stream remediation, phase 2, construction.

Snow removal equipment—push plow for front-end loader procurement.

Emergency radios procurement (800 Mhz).

Rehabilitate runway 7/25 and portion of taxiway C edge lighting.

Runway 7/15 safety area delineation of wetlands.

Runway 7/25 safety area environmental assessment.

Perimeter road modifications.

PFC application preparation reimbursement.

Reimbursement of PFC account audit charges for fiscal years 1999 through 2004.

Terminal holding area improvements.

Decision Date: October 24, 2005.

FOR FURTHER INFORMATION CONTACT: Jason Watt, Detroit Airports District Office, (734) 229-2906.

Amendments to PFC Approvals
Amendment No., City, State | Amendment approved date | Original approved net PFC revenue | Amended approved net PFC revenue | Original estimated charge exp. date | Amended estimated charge exp. date
97-01-C-03-SBA, Santa Barbara, CA | 09/15/05 | $3,282,698 | $3,384,520 | 01/01/00 | 01/01/00
02-03-C-02-SBA, Santa Barbara, CA | 09/15/05 | 2,001,560 | 2,420,080 | 08/01/06 | 02/01/06
02-04-C-01-RDM, Redmond, OR | 09/27/05 | 1,968,545 | 2,083,546 | 10/01/06 | 04/01/07
94-01-C-02-SLC, Salt Lake City, UT | 09/28/05 | 99,230,800 | 104,375,119 | 03/01/99 | 03/01/99
96-02-C-02-SLC, Salt Lake City, UT | 09/28/05 | 61,992,646 | 61,798,349 | 07/01/01 | 07/01/01
01-07-C-01-JAC, Jackson, WY | 10/06/05 | 111,930 | 111,005 | 09/01/02 | 09/01/02
*03-02-C-03-ACY, Atlantic City, NJ | 10/19/05 | 1,363,575 | 1,363,575 | 04/01/06 | 11/01/06
*99-01-C-05-ACY, Atlantic City, NJ | 10/20/05 | 6,801,935 | 8,380,852 | 07/01/05 | 02/01/06
*04-03-C-01-ACY, Atlantic City, NJ | 10/20/05 | 750,000 | 750,000 | 11/01/06 | 07/01/07
*92-01-C-01-FWA, Fort Wayne, IN | 10/21/05 | 26,563,457 | 26,563,457 | 03/01/15 | 10/01/16
98-01-C-01-FWA, Fort Wayne, IN | 10/21/05 | 500,000 | 0 | 01/01/16 | 03/01/15
92-01-C-05-RSW, Fort Myers, FL | 10/25/05 | 155,965,924 | 149,922,253 | 03/01/11 | 09/01/06
94-03-U-01-RSW, Fort Myers, FL | 10/26/05 | NA | NA | 03/01/11 | 09/01/06
97-04-U-01-RSW, Fort Myers, FL | 10/27/05 | NA | NA | 03/01/11 | 09/01/06
Note: The amendments denoted by an asterisk (*) include a change to the PFC level charged from $3 per enplaned passenger to $4.50 per enplaned passenger. For Fort Wayne, IN and Atlantic City, NJ, this change is effective on December 1, 2005.

Issued in Washington, DC, on December 21, 2005.
Joe Hebert,
Manager, Financial Analysis and Passenger Facility Charge Branch.

[FR Doc. 05-24532 Filed 12-27-05; 8:45 am]

BILLING CODE 4910-13-M